ENVIRONMENTAL PROTECTION AGENCY

40 CFR Part 52

[EPA-R04-OAR-2021-0342; FRL-9971-02-R4]

Air Plan Approval; Georgia; Revision of Enhanced Inspection and Maintenance Program

AGENCY: Environmental Protection Agency (EPA).

ACTION: Final rule.

SUMMARY: The Environmental Protection Agency (EPA) is approving changes to State Implementation Plan (SIP) revisions submitted by the State of Georgia, through the Georgia Department of Natural Resources (GA DNR), Environmental Protection Division (GA EPD), in a letter dated April 30, 2021. The revisions remove obsolete references and provisions, clarify the State's inspection and maintenance (I/M) requirements, and update terminology, in part to reflect advances in test and vehicle technology. EPA evaluated the SIP revisions and determined the changes will not impact emissions under the Georgia I/M program. EPA also determined that approval of the SIP revisions will not interfere with attainment or maintenance of any national ambient air quality standard (NAAQS) or with any other applicable requirement of the Clean Air Act (CAA or Act). Therefore, EPA is approving the Georgia's April 30, 2021, SIP revisions as consistent with the applicable provisions of the CAA.

DATES: This rule is effective October 24, 2022.

ADDRESSES: EPA has established a docket for this action under Docket Identification No. EPA-R04-OAR-2021-0342. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Kelly Sheckler, Air Regulatory Management Section, Air Planning and Implementation Branch, Air and Radiation Division, Region 4, U.S. Environmental Protection Agency, 61 Forsyth Street SW, Atlanta, Georgia 30303-8960. The telephone number is (404) 562-9222. Ms. Kelly Sheckler can also be reached via electronic mail at sheckler.kelly@epa.gov.

SUPPLEMENTARY INFORMATION:

I. Background

EPA is approving changes to the Georgia SIP that were provided to EPA under a cover letter dated April 30, 2021.¹ Specifically, GA EPD submitted changes to Georgia's Rule 391-3-20—Enhanced Inspection and Maintenance (“Georgia I/M Regulation”), which were adopted by the GA DNR Board of Directors and became state-effective on April 13, 2021. The changes update the Georgia SIP to remove obsolete references, requirements, and terminology, and update terminology to reflect advances in technology. These proposed changes include removing and revising definitions applicable to the Georgia I/M Regulation.

¹ EPA officially received Georgia's I/M SIP revision request on May 4, 2021.

Georgia's April 30, 2021, SIP revisions sought to modify the following sections of the Georgia's SIP-approved I/M Regulation: Rule 391-3-20-.01—“Definitions”; Rule 391-3-20-.04—“Emission Inspection Procedures”; Rule 391-3-20-.05—“Emission Standards”; Rule 391-3-20-.07—“Inspection Equipment System Specifications”; Rule 391-3-20-.09—“Inspection Station Requirements”; and Rule 391-3-20-.11—“Inspector Qualifications and Certification.”

On July 11, 2022, EPA published a notice of proposed rulemaking (NPRM) to propose approval of the aforementioned changes to Georgia's SIP. See 87 FR 41080. EPA's July 11, 2022, NPRM includes further detail on the changes made in Georgia's April 30, 2021, submittal as well as EPA's rationale for approving these changes to the SIP. Comments were due on the July 11, 2022, NPRM on or before August 10, 2022, and EPA received no comments on that proposal. Therefore, EPA is approving the changes in this final action.

II. Incorporation by Reference

In this document, EPA is finalizing regulatory text that includes incorporation by reference. In accordance with requirements of 1 CFR 51.5, and as discussed in Section I of this preamble, EPA is finalizing the incorporation by reference of Georgia Rules 391-3-20-.01—Definitions; 391-3-20-.04—Emission Inspection Procedures; 391-3-20-.05—Emission Standards; 391-3-20-.07—Inspection Equipment System Specifications; 391-3-20-.09—Inspection Station Requirements; and 391-3-20-.11—Inspector Qualifications and Certification, all of which have an effective date of April 13, 2021, into the Georgia SIP. EPA has made and will continue to make these materials generally available through www.regulations.gov and at the EPA Region 4 Office (please contact the person identified in the FOR FURTHER INFORMATION CONTACT section of this preamble for more information). Therefore, the revised materials as stated above, have been approved by EPA for inclusion in the State implementation plan, have been incorporated by reference by EPA into that plan, are fully federally enforceable under sections 110 and 113 of the CAA as of the effective date of the final rulemaking of EPA's approval, and will be incorporated by reference in the next update to the SIP compilation.²

² See 62 FR 27968 (May 22, 1997).

III. Final Action

EPA is taking final action approving changes to the Georgia SIP that were provided to EPA in a cover letter dated April 30, 2021. GA EPD submitted changes to Georgia's Rule 391-3-20—Enhanced Inspection and Maintenance (“Georgia I/M Regulation”), which were adopted by the GA DNR Board of Directors and became state-effective on April 13, 2021. Specifically, Georgia's April 30, 2021, SIP revisions modify the following sections of the Georgia's SIP-approved I/M Regulation: Rule 391-3-20-.01—Definitions; Rule 391-3-20-.04 —Emission Inspection Procedures; Rule 391-3-20-.05—Emission Standards; Rule 391-3-20-.07—Inspection Equipment System Specifications; Rule 391-3-20-.09—Inspection Station Requirements; and Rule 391-3-20-.11—Inspector Qualifications and Certification.

IV. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 21, 2022. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Incorporation by reference, Ozone, Reporting and recordkeeping requirements, Volatile organic compounds.

Dated: September 15, 2022.
Daniel Blackman,
Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart L—Georgia

2. In § 52.570(c), amend the table by revising the entries for “391-3-20-.01”, “391-3-20-.04”, “391-3-20-.05”, “391-3-20-.07”, “391-3-20-.09”, and “391-3-20-.11,”, to read as follows:

§ 52.570 Identification of plan.

* * * * *

(c) * * *

EPA Approved Georgia Regulations
State citation | Title/subject | State effective date | EPA approval date | Explanation
* * * * * * *
391-3-20-.01 | Definitions | 4/13/2021 | 9/22/2022, [Insert citation of publication] |
* * * * * * *
391-3-20-.04 | Emission Inspection Procedures | 4/13/2021 | 9/22/2022, [Insert citation of publication] |
391-3-20-.05 | Emission Standards | 4/13/2021 | 9/22/2022, [Insert citation of publication] |
* * * * * * *
391-3-20-.07 | Inspection Equipment System Specifications | 4/13/2021 | 9/22/2022, [Insert citation of publication] |
* * * * * * *
391-3-20-.09 | Inspection Station Requirements | 4/13/2021 | 9/22/2022, [Insert citation of publication] |
* * * * * * *
391-3-20-.11 | Inspector Qualifications and Certification | 4/13/2021 | 9/22/2022, [Insert citation of publication] |

* * * * *

[FR Doc. 2022-20421 Filed 9-21-22; 8:45 am]

BILLING CODE 6560-50-P